ENVIRONMENTAL PROTECTION AGENCY

40 CFR Part 52

[EPA-R04-OAR-2016-0634; FRL-9966-32-Region 4]

Air Plan Approval; Georgia; Regional Haze Progress Report

AGENCY: Environmental Protection Agency (EPA).

ACTION: Proposed rule.

SUMMARY: The Environmental Protection Agency (EPA) is proposing to approve a State Implementation Plan (SIP) revision submitted by the State of Georgia, Department of Natural Resources, through the Georgia Environmental Protection Division (GA EPD) on January 8, 2014. Georgia's January 8, 2014, SIP revision (Progress Report) addresses requirements of the Clean Air Act (CAA or Act) and EPA's rules that require each state to submit periodic reports describing progress towards reasonable progress goals (RPGs) established for regional haze and a determination of the adequacy of the state's existing SIP addressing regional haze (regional haze plan). EPA is proposing to approve Georgia's determination that the State's regional haze plan is adequate to meet these RPGs for the first implementation period covering through 2018 and requires no substantive revision at this time.

DATES: Comments must be received on or before September 14, 2017.

ADDRESSES: Submit your comments, identified by Docket ID No. EPA-R04-OAR-2016-0634 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Michele Notarianni, Air Regulatory Management Section, Air Planning and Implementation Branch, Air, Pesticides and Toxics Management Division, U.S. Environmental Protection Agency, Region 4, 61 Forsyth Street SW., Atlanta, Georgia 30303-8960. Ms. Notarianni can be reached by phone at (404) 562-9031 and via electronic mail at notarianni.michele@epa.gov.

SUPPLEMENTARY INFORMATION:

I. Background

States are required to submit a progress report in the form of a SIP revision during the first implementation period that evaluates progress towards the RPGs for each mandatory Class I federal area ¹ (Class I area) within the state and for each Class I area outside the state which may be affected by emissions from within the state. 40 CFR 51.308(g). In addition, the provisions of 40 CFR 51.308(h) require states to submit, at the same time as the 40 CFR 51.308(g) progress report, a determination of the adequacy of the state's existing regional haze plan. The first progress report is due five years after submittal of the initial regional haze plan. Georgia submitted its first regional haze plan on February 11, 2010, and supplemented its plan on November 19, 2010.²

¹ Areas designated as mandatory Class I federal areas consist of national parks exceeding 6000 acres, wilderness areas and national memorial parks exceeding 5000 acres, and all international parks that were in existence on August 7, 1977. 42 U.S.C. 7472(a). These areas are listed at 40 CFR part 81, subpart D.

² Georgia's February 11, 2010, regional haze plan as supplemented on November 19, 2010, is hereinafter collectively referred to as Georgia's regional haze plan unless otherwise specified.

Like many other states subject to the Clean Air Interstate Rule (CAIR), Georgia relied on CAIR in its regional haze plan to meet certain requirements of EPA's Regional Haze Rule, including best available retrofit technology (BART) requirements for emissions of sulfur dioxide (SO2) and nitrogen oxides (NOx) from certain electric generating units (EGUs) in the State.³ This reliance was consistent with EPA's regulations at the time that Georgia developed its regional haze plan. See 70 FR 39104 (July 6, 2005). However, in 2008, the United States Court of Appeals for the District of Columbia Circuit (D.C. Circuit) remanded CAIR to EPA without vacatur to preserve the environmental benefits provided by CAIR. North Carolina v. EPA, 550 F.3d 1176, 1178 (D.C. Cir. 2008). On August 8, 2011 (76 FR 48208), acting on the D.C. Circuit's remand, EPA promulgated CSAPR to replace CAIR and issued Federal Implementation Plans (FIPs) to implement the rule in CSAPR-subject states.⁴ Implementation of CSAPR was scheduled to begin on January 1, 2012, when CSAPR would have superseded the CAIR program. However, numerous parties filed petitions for review of CSAPR, and at the end of 2011, the D.C. Circuit issued an order staying CSAPR pending resolution of the petitions and directing EPA to continue to administer CAIR. Order of December 30, 2011, in EME Homer City Generation, L.P. v. EPA, D.C. Cir. No. 11-1302.

³ CAIR required certain states, including Georgia, to reduce emissions of SO2 and NOX that significantly contribute to downwind nonattainment of the 1997 National Ambient Air Quality Standard (NAAQS) for fine particulate matter (PM2.5) and ozone. See 70 FR 25162 (May 12, 2005).

⁴ CSAPR requires 27 Eastern states to limit their statewide emissions of SO2 and/or NOX in order to mitigate transported air pollution unlawfully impacting other states' ability to attain or maintain four NAAQS: The 1997 ozone NAAQS, the 1997 annual PM2.5 NAAQS, the 2006 24-hour PM2.5 NAAQS, and the 2008 8-hour ozone NAAQS. The CSAPR emissions limitations are defined in terms of maximum statewide budgets for emissions of annual SO2, annual NOX, and/or ozone-season NOX by each covered state's large EGUs.

On June 28, 2012 (77 FR 38501), EPA finalized a limited approval of Georgia's regional haze plan as meeting some of the applicable regional haze requirements of the first implementation period for regional haze. In a separate action published on June 7, 2012 (77 FR 33642), EPA finalized a limited disapproval of Georgia's regional haze plan because of deficiencies arising from the State's reliance on CAIR to satisfy certain regional haze requirements. In the June 7, 2012, action, EPA also promulgated FIPs to replace reliance on CAIR with reliance on CSAPR to address deficiencies in CAIR-dependent regional haze plans of several states, including Georgia's regional haze plan.

On August 21, 2012, the D.C. Circuit issued its ruling on CSAPR, vacating and remanding the Rule to EPA and ordering continued implementation of CAIR. EME Homer City Generation, L.P. v. EPA, 696 F.3d 7, 38 (D.C. Cir. 2012). The D.C. Circuit's vacatur of CSAPR was reversed by the United States Supreme Court on April 29, 2014, and the case was remanded to the D.C. Circuit to resolve remaining issues in accordance with the high court's ruling. EPA v. EME Homer City Generation, L.P., 134 S. Ct. 1584 (2014). On remand, the D.C. Circuit affirmed CSAPR in most respects, but invalidated without vacating some of the CSAPR budgets as to a number of states. EME Homer City Generation, L.P. v. EPA, 795 F.3d 118 (D.C. Cir. 2015). The remanded budgets include the Phase 2 SO2 emissions budget for Georgia. This litigation ultimately delayed implementation of CSAPR for three years, from January 1, 2012, when CSAPR's cap-and-trade programs were originally scheduled to replace the CAIR cap-and-trade programs, to January 1, 2015. Thus, the rule's Phase 2 budgets, originally promulgated to begin on January 1, 2014, began on January 1, 2017. On July 26, 2017, Georgia submitted a SIP revision that adopts provisions for participation in the CSAPR annual NOX and annual SO2 trading programs, including annual NOX and annual SO2 budgets that are equal to the budgets for Georgia in EPA's CSAPR FIP.

On January 8, 2014, Georgia submitted its Progress Report which, among other things, details the progress made in the first period toward implementation of the long term strategy outlined in the State's regional haze plan; the visibility improvement measured at the three Class I areas within its borders (Cohutta Wilderness Area, Okefenokee Wilderness Area, and Wolf Island Wilderness Area) and at Class I areas outside of the State potentially impacted by emissions from Georgia; and a determination of the adequacy of the State's existing regional haze plan. EPA is proposing to approve Georgia's January 8, 2014, Progress Report for the reasons discussed below.

II. EPA's Evaluation of Georgia's Progress Report and Adequacy Determination

A. Regional Haze Progress Report

This section includes EPA's analysis of Georgia's Progress Report and an explanation of the basis for the Agency's proposed approval.

1. Control Measures

In its Progress Report, Georgia summarizes the status of the emissions reduction measures that were included in the final iteration of the Visibility Improvement State and Tribal Association of the Southeast (VISTAS) regional haze emissions inventory and RPG modeling used by the State in developing its regional haze plan. The measures include, among other things, applicable federal programs (e.g., mobile source rules and Maximum Achievable Control Technology standards) and federal and state control strategies for EGUs. Georgia also described the court decisions addressing CAIR and CSAPR at the time of Progress Report development.

As discussed above, a number of states, including Georgia, submitted regional haze plans that relied on CAIR to meet certain regional haze requirements. EPA finalized a limited disapproval of Georgia's regional haze plan due to this reliance and promulgated a FIP to replace reliance on CAIR with reliance on CSAPR. The D.C. Circuit ultimately affirmed CSAPR in most respects, and CSAPR is now in effect. EME Homer City Generation, L.P. v. EPA, 795 F.3d 118 (D.C. Cir. 2015). Georgia notes in its Progress Report that CAIR was in effect due to the D.C. Circuit's decisions at the time of submittal. Because CSAPR should result in greater emissions reductions of SO2 and NOX than CAIR throughout the affected region, EPA expects Georgia to maintain and continue its progress towards its RPGs for 2018 through continued, and additional, SO2 and NOX reductions. See generally 76 FR 48208 (August 8, 2011).

In its Progress Report, Georgia identifies the status of implementation of SO2 controls required by Georgia Rule 391-3-1-.02(2)(sss)—“Multipollutant Rule” (Rule (sss)) that were scheduled to be installed at the time of the original regional haze plan submittal. Rule (sss), enacted in response to CAIR, requires the installation and operation of flue gas desulfurization (FGD) to control SO2 emissions and selective catalytic reduction (SCR) to control NOX emissions on the majority of the coal-fired EGUs in Georgia. The State notes that these controls will reduce NOX emissions from these EGUs by approximately 85 percent and reduce SO2 emissions by at least 95 percent. The implementation dates vary by EGU, starting on December 31, 2008, and ending on December 31, 2015. To date, all planned controls have been implemented either early or on time. By installing and operating FGD and SCR controls in accordance with Rule (sss), Georgia EGUs also met the requirements of CAIR. In its regional haze plan and Progress Report, Georgia focuses its assessment on SO2 emissions from EGUs because of VISTAS' findings that ammonium sulfate accounted for more than 70 percent of the visibility-impairing pollution in the VISTAS states ⁵ and that SO2 point source emissions are projected to represent more than 95 percent of the total SO2 emissions in the VISTAS states in 2018.⁶ As discussed below in Section II.A.5, Georgia determined that sulfates continue to be the largest contributor to regional haze for Class I areas in the State.

⁵ Sulfate levels on the 20 percent worst days account for 60-70 percent of the visibility impairment at Georgia's Class I areas. For additional information, see Georgia's February 11, 2010, regional haze plan submittal at page 13.

⁶ For additional information, see Georgia's February 11, 2010, regional haze plan submittal at page 76.

Georgia also reviewed the status of SO2 controls for 11 non-EGU emissions units at seven facilities in the State which were included in the universe of emissions units initially determined eligible for a reasonable progress control analysis.⁷ Of these 11 emissions units, six units at three facilities accepted permit limits to exempt out of being subject to a reasonable progress control analysis; ⁸ the State determined that the BART-related controls for three units at two facilities satisfied reasonable progress; ⁹ and for the remaining two units at two facilities, Georgia required additional controls.¹⁰ At the time of Progress Report submission, all units have required permit limits in place and have met or are expected to meet the required control due dates.¹¹

⁷ See Table 2-3 of Georgia's Progress Report, pp.20-22. This table excludes EGU and non-EGU units where existing controls or CAIR controls were determined to satisfy reasonable progress for the first implementation period.

⁸ The following six units in Georgia have permit limits which exempt them from being eligible for a reasonable progress analysis: Packaging Corporation of America C E Boiler; Rayonier Performance Fibers—Jessup Mill Power Boilers 2 and 3 and Recovery Furnaces 1 and 4; and Southern States Phosphate and Fertilizer Sulfuric Acid Plant 2.

⁹ The following three units in Georgia have implemented BART-related controls by the required due dates: Georgia Pacific Cedar Springs—Power Boilers U500 and U501 (BART exemption limits) and Interstate Paper Power Boiler F1 (BART control limits).

¹⁰ The following two units in Georgia are applying additional control measures to meet their permit limits which satisfy reasonable progress: Georgia Pacific Brunswick Cellulose Power Boiler No. 4 and International Paper—Savannah Mill Power Boiler 13.

¹¹ See Table 2-3 of Georgia's Progress Report, pp.20-22.

In addition, the State discusses the status of several measures that were not included in the final VISTAS emissions inventory and were not relied upon in the initial regional haze plan to meet RPGs, including EPA's Mercury and Air Toxics Rule, a 2011 federal consent agreement with the Tennessee Valley Authority, and EGU retirements and fuel conversions that have occurred or are planned to occur before 2018. Georgia Power decertified and retired 15 fossil fuel fired EGUs (10 coal-fired, three oil-fired, and two gas-fired units) between 2013 and 2016.¹² Further, Georgia Power's Yates Steam Electric Generating Plant converted Units 6 and 7 from coal to natural gas.¹³ The State notes that the emissions reductions from these measures will help ensure that Class I areas impacted by Georgia sources achieve their RPGs.

¹² See page 24 of Georgia's Progress Report and a November 18, 2016, email from Georgia to EPA documenting these EGU retirements. The Progress Report, email from the State, and associated documentation of these retirements and fuel conversions are located in the docket for this proposed action.

¹³ Id.

Regarding the impact of sources outside of the State on Class I areas in Georgia, GA EPD sent letters to Florida, South Carolina, and Tennessee pertaining to emissions units within these states that it believes contribute to visibility impairment at Georgia's Class I areas using the State's methodology for determining sources eligible for a reasonable progress control determination.¹⁴ Georgia consulted with these states regarding these sources and opted not to rely upon any additional emissions reductions from sources located outside the State's boundaries beyond those already identified in the State's regional haze plan.¹⁵

¹⁴ See 77 FR 11474-11475.

¹⁵ See 77 FR 11475.

Regarding the impact of Georgia's sources on Class I areas outside of the State, Georgia applied its area of influence methodology to identify sources in the State that have emissions units with impacts large enough to potentially warrant further evaluation and analysis because, at the time of Georgia's SIP development, many of these states had not yet defined their criteria for identifying sources to evaluate for reasonable progress. The State identified eight emissions units in Georgia within the area of influence of seven Class I areas in five neighboring states. Georgia determined that there are no additional control measures for these Georgia emissions units that would be reasonable to implement to mitigate visibility impacts in Class I areas in the five neighboring states.¹⁶

¹⁶ In its regional haze plan, the State identified, through an area of influence modeling analysis based on back trajectories, seven Class I areas in five neighboring states potentially impacted by Georgia sources using the State's reasonable progress eligibility criteria as a screening tool: Sipsey Wilderness Area (AL), Saint Marks Wilderness Area (FL), Shining Rock Wilderness Area (NC), Swanquarter Wilderness Area (NC), Great Smoky Mountains National Park (NC/TN), Joyce Kilmer-Slickrock Wilderness Area (NC/TN), and Cape Romain Wilderness Area (SC). See 77 FR 11474 (February 27, 2012). Georgia evaluated the 20 percent worst day visibility conditions for these areas. See pages 42-43 and Appendix D of Georgia's Progress Report.

EPA proposes to find that Georgia adequately addressed the applicable provisions under 40 CFR 51.308(g) regarding the implementation of control measures for the reasons discussed below. The State documents the implementation status of measures from its regional haze plan in addition to describing additional measures not originally accounted for in the final VISTAS emissions inventory that came into effect since the VISTAS analyses for the regional haze plan were completed. Georgia reviewed the status of BART requirements for the two BART-subject non-EGU sources in the State and reviewed the status of additional reasonable progress controls for these two sources. The State's Progress Report also discusses the status of existing and future expected SO2 controls for Georgia's EGUs because, in its regional haze plan, Georgia identified SO2 emissions from coal-fired EGUs as the key contributor to regional haze in the VISTAS region.

2. Emissions Reductions

As discussed above, Georgia focused its assessment on SO2 emissions from EGUs because of VISTAS' findings that ammonium sulfate is the primary component of visibility-impairing pollution in the VISTAS states. In its Progress Report, Georgia presents SO2 emissions data for 23 coal-fired EGUs at seven facilities in the State that, at the time the State submitted its February 11, 2010, regional haze plan, were scheduled to install SO2 controls as a result of Rule (sss).¹⁷ Eleven of these coal-fired EGUs were identified by Georgia as having visibility impacts at one or more neighboring Class I areas. As of the time that Georgia developed its Progress Report, all planned controls had been implemented either early or on time and the requirements for controls in 2013 or later are still in place. Georgia Power—Plant McDonough retired Units 1 and 2 prior to their control dates in 2012 and 2011, respectively, for FGD controls.

¹⁷ See Table 2-2 on pages 15-18 of Georgia's Progress Report.

Based on EGU emissions projections from its regional haze plan, Georgia notes that the estimated total SO2 emission reductions for these coal-fired EGUs from 2002 to 2018 would be 441,989 tons per year (tpy) and from 2002 to 2009 would be 161,949 tpy. Actual SO2 emissions reductions implemented by the end of 2009 totaled 184,215 tpy of SO2, over 20,000 tpy greater than originally projected through 2009 in Georgia's regional haze plan. Georgia also estimates in its Progress Report that an additional 93,000 tons of SO2 emissions reductions were achieved from 2010 through 2012.¹⁸

¹⁸ See page 14 of Georgia's Progress Report.

Georgia's Progress Report also includes SO2 and NOX emissions data from 2002-2011 for EGUs in the State and for EGUs in the VISTAS region that are subject to reporting under the Acid Rain Program. This data shows a decline in these emissions over this time period. From 2002-2011, SO2 emissions from these EGUs in Georgia decreased by 325,795 tons annually. Table 1 shows actual SO2 emissions from Georgia EGUs obtained from EPA's Clean Air Markets Division (CAMD) database. EGU SO2 emissions dropped from 2007 to 2011 by 448,625 tons.

Table 1—Georgia EGU SO2 Emissions From CAMD
[2007-2011]
SO2 Emissions (tons) | 2007 | 2008 | 2009 | 2010 | 2011
CAMD EGU Emissions | 635,484 | 514,539 | 262,337 | 218,904 | 186,859
Change from 2007 | 0 | 120,945 | 373,147 | 416,580 | 448,625

EPA proposes to conclude that Georgia has adequately addressed 40 CFR 51.308(g). As discussed above, the State provides estimates, and where available, actual emissions reductions of SO2 and NOX at EGUs in the State.

3. Visibility Progress

In its Progress Report, Georgia provides figures with visibility monitoring data for the State's three Class I areas. Georgia reported current conditions as the 2006-2010 five-year time period and used the 2000-2004 baseline period for its Class I areas.¹⁹ Table 2 shows the current visibility conditions and the difference between current visibility conditions and baseline visibility conditions. Table 3 shows the changes in visibility from 2005-2010 in terms of five-year averages.

¹⁹ For the first regional haze plans, “baseline” conditions were represented by the 2000-2004 time period. See 64 FR 35730 (July 1, 1999). Wolf Island Wilderness Area does not have a visibility monitor; therefore, visibility data from Okefenokee Wilderness Area is used for both areas given their proximity. For more information, see 77 FR 11459.

Table 2—Baseline Visibility, Current Visibility, and Visibility Changes in Class I Areas in Georgia
Class I area | Baseline (2000-2004) | Current (2006-2010) | Difference | RPG (2018)
20% Worst Days
Cohutta | 30.25 | 26.18 | −4.07 | 22.80
Okefenokee | 27.13 | 25.01 | −2.13 | 23.82
Wolf Island | 27.13 | 25.01 | −2.13 | 23.82
20% Best Days
Cohutta | 13.77 | 12.18 | −1.59 | 11.75
Okefenokee | 15.23 | 14.19 | −1.04 | 13.92
Wolf Island | 15.23 | 14.19 | −1.04 | 13.92

Table 3—Changes in Five-Year Visibility Averages From 2005-2010
Class I area | 2005 | 2006 | 2007 | 2008 | 2009 | 2010 | Change (2010-2005)
20% Worst Days
Cohutta ²⁰ | 30.43 | 30.52 | 30.43 | 29.63 | 28.01 | 26.18 | −4.24
Okefenokee | 27.14 | 27.24 | 27.21 | 26.88 | 26.00 | 25.01 | −2.13
Wolf Island | 27.14 | 27.24 | 27.21 | 26.88 | 26.00 | 25.01 | −2.13
20% Best Days
Cohutta ²¹ | 13.88 | 13.63 | 13.62 | 13.43 | 12.5 | 12.18 | −1.70
Okefenokee | 14.95 | 15.03 | 14.90 | 14.90 | 14.46 | 14.19 | −0.75
Wolf Island | 14.95 | 15.03 | 14.90 | 14.90 | 14.46 | 14.19 | −0.75

All Georgia Class I areas saw an improvement in visibility between baseline and 2006-2010 conditions and an overall decline in the five-year visibility averages from 2006-2010.

²⁰ There is no annual average for Cohutta for the year 2006.

²¹ Id.

EPA proposes to find that Georgia has adequately addressed the applicable provisions under 40 CFR 51.308(g) regarding visibility conditions because the State provided baseline visibility conditions (2000-2004), current conditions based on the most recently available visibility monitoring data available at the time of Progress Report development, and the change in visibility impairment from 2006-2010.

4. Emissions Tracking

In its Progress Report, Georgia includes data from a statewide actual emissions inventory for 2007 and compares this data to the baseline emissions inventory for 2002 (actual and typical emissions) from its regional haze plan.²² The pollutants inventoried include volatile organic compounds (VOC), ammonia (NH3), NOX, coarse particulate matter (PM10), fine particulate matter (PM2.5), and SO2.²³ The emissions inventories include the following source classifications: Point, area, biogenics, non-road mobile, and on-road mobile sources.

²² For the typical 2002 stationary point source emissions inventory, Georgia adjusted the EGU emissions for a typical year so that if sources were shut down or operating above or below normal, the emissions are normalized to a typical emissions inventory year. The purpose is to smooth out potential anomalies in EGU emissions (related to meteorology, economic, and outage factors) in a given year. The typical year data is used to develop projected typical future year emissions inventories.

²³ See Appendices F through I of Georgia's Progress Report for inventories of these pollutants.

Georgia's Progress Report narrative includes the actual and typical emissions inventories from its regional haze plan for 2002, and summarizes actual emissions data for SO2, NOX, and PM2.5 from 2007.²⁴ Although EPA's 2008 National Emissions Inventory was available, Georgia believes that the 2007 inventory was a more accurate and more detailed inventory because additional work was done to improve and verify its accuracy. Georgia estimated on-road mobile source emissions in the 2007 inventory using EPA's MOVES model. This model tends to estimate higher emissions for NOX and PM than its previous counterpart, EPA's MOBILE6.2 model, used by the State to estimate on-road mobile source emissions for the 2002 inventories. Georgia also included projected emissions data from its February 11, 2010, regional haze plan submittal for these visibility-impairing pollutants for the years 2009 and 2018.

²⁴ Georgia focuses on the visibility-impairing pollutants of SO2, NOX, and PM2.5 in its Progress Report narrative because VISTAS performed modeling sensitivity analyses which demonstrated that anthropogenic emissions of VOC and NH3 do not significantly impair visibility in the VISTAS region, including Georgia. See 77 FR 11456, 11460 (February 27, 2012).

Table 4 shows that actual emissions of PM2.5 in 2007 are slightly higher than 2002 emissions. Both the 2002 and 2007 actual emissions inventories are lower than the projected emissions for 2009 and 2018 from Georgia's regional haze plan. The State notes that the increase in on-road mobile PM2.5 emissions from 2002 to 2007 is due to the change from MOBILE 6.2 to the MOVES model and that the decrease in area source PM2.5 emissions from 2002 to 2007 is mainly due to a change in the methodology used for calculating this sector's emissions.

Table 4—PM2.5 Emissions
[tons]
Sector | 2002 Actual | 2002 Typical | 2007 Actual | 2009 Projected | 2018 Projected
Point | 22,401 | 22,532 | 25,058 | 29,890 | 36,297
Area | 103,726 | 103,726 | 83,594 | 111,924 | 123,610
On-road | 5,168 | 5,168 | 13,681 | 3,840 | 2,380
Non-road | 8,226 | 8,226 | 6,608 | 7,175 | 5,730
Fires | 57,293 | 55,712 | 68,766 | 57,087 | 57,087
Total | 196,814 | 195,364 | 197,707 | 209,916 | 225,104

Table 5 shows that actual emissions of NOX in 2007 are slightly higher than 2002 emissions. With the exception of area sources, both the 2002 and 2007 actual emissions inventories for all other source categories remain higher than or approximately equal to the projected emissions for 2009 and 2018 from Georgia's regional haze plan. Georgia notes that the increase in on-road mobile NOX emissions from 2002 to 2007 is due to the change to the MOVES model; the decrease in area source NOX emissions is mainly due to a change in the methodology used for calculating this sector's emissions and the decrease in point source NOX is due to the installation of emissions controls. Georgia notes in its Progress Report that if there was no change in the mobile model used, the State would expect that 2007 emissions would be less than the 2002 base year emissions for NOX.

Table 5—NOX Emissions
[tons]
Sector | 2002 Actual | 2002 Typical | 2007 Actual | 2009 Projected | 2018 Projected
Point | 196,767 | 197,377 | 154,041 | 148,850 | 125,680
Area | 36,105 | 36,105 | 12,351 | 37,689 | 41,282
On-road | 307,732 | 307,732 | 396,837 | 209,349 | 102,179
Non-road | 97,961 | 97,961 | 91,081 | 85,733 | 64,579
Fires | 14,203 | 13,882 | 19,429 | 14,236 | 14,236
Total | 652,768 | 653,057 | 673,739 | 495,857 | 347,956

Table 6 shows that actual emissions of SO2 from point sources and fires are higher in 2007 than 2002. Georgia notes that the decrease in area source SO2 emissions is mainly due to a change in the methodology used for calculating this sector's emissions and that the increase in point source SO2 emissions from 2002 to 2007 is due to increased electricity generation. Despite the increase from 2002 to 2007 in point source emissions of SO2, significant emissions reductions occurred in this sector from 2007 to 2011 (as summarized in Table 1, above). The State attributes these decreased emissions to FGD being installed at several of the coal-fired EGUs in Georgia.

Table 6—SO2 Emissions
[tons]
Sector | 2002 Actual | 2002 Typical | 2007 Actual | 2009 Projected | 2018 Projected
Point | 568,731 | 571,411 | 683,358 | 462,666 | 127,864
Area | 57,555 | 57,555 | 4,858 | 57,692 | 59,724
On-road | 12,184 | 12,184 | 6,407 | 1,585 | 1,457
Non-road | 9,005 | 9,005 | 5,983 | 2,725 | 1,709
Fires | 3,372 | 2,815 | 4,492 | 2,912 | 2,912
Total | 650,847 | 652,970 | 705,098 | 527,580 | 193,666

EPA proposes to find that Georgia adequately addressed the provisions of 40 CFR 51.308(g) regarding emissions tracking because the State compared the most recent updated emission inventory data available at the time of Progress Report development with the baseline emissions used in the modeling for the regional haze plan.

5. Assessment of Changes Impeding Visibility Progress

In its Progress Report, Georgia documented that sulfates, which are formed from SO2 emissions, continue to be the biggest single contributor to regional haze for Class I areas in the VISTAS states, including Georgia, and therefore focused its analysis on large SO2 emissions from point sources. Specifically, Georgia provided data showing the composition of PM2.5 (“speciated data”) for Class I areas in the VISTAS region and bordering areas, including Cohutta and Okefenokee, for the years 2001 through 2010. This speciated data shows that ammonium sulfate continues to be the most important contributor to visibility impairment and fine particle mass on the 20 percent worst and 20 percent best visibility days at all of Georgia's Class I areas.²⁵ The State notes that there are no significant changes in anthropogenic emissions that have impeded progress in reducing emissions and improving visibility in Class I areas impacted by Georgia sources, and refers to decreases in point source SO2 emissions from 2002 to 2011. Given the heat input data reported by CAMD, the State concludes that these reductions are not attributable to reduced power demand. Furthermore, the Progress Report shows that the State is on track to meeting its 2018 RPGs for Class I areas in Georgia.

²⁵ See Appendices A and B of Georgia's Progress Report.

EPA proposes to find that Georgia has adequately addressed the provisions of 40 CFR 51.308(g) regarding an assessment of significant changes in anthropogenic emissions. EPA preliminarily agrees with Georgia's conclusion that there have been no significant changes in emissions of visibility-impairing pollutants which have limited or impeded progress in reducing emissions and improving visibility in Class I areas impacted by the State's sources.

6. Assessment of Current Strategy

The State believes that it is on track to meet the 2018 RPGs for Georgia Class I areas and will not impede Class I areas outside of Georgia from meeting their RPGs based on the trends in visibility and emissions presented in its Progress Report. As noted above, Georgia provided speciated data for the period 2006 to 2010 for the 20 percent best and worst days at Class I areas in and surrounding the VISTAS region, including Okefenokee and Cohutta, showing that sulfates continue to be the largest contributor to visibility impairment at these Class I areas.²⁶ Georgia's Progress Report shows that SO2 emissions from EGUs in Georgia have decreased from 2002 to 2011 by 325,795 tons; that visibility has improved on the 20 percent worst days for the State's Class I areas and the Class I areas potentially impacted by the State's sources (Cape Romain National Wilderness Area in South Carolina, Shining Rock and Swanquarter Wilderness Areas in North Carolina, Joyce Kilmer—Slick Rock Wilderness Area and Great Smoky Mountains National Park in North Carolina and Tennessee, St. Marks National Wilderness Area in Florida, and Sipsey Wilderness Area in Alabama); and that these areas are on track to achieve their RPGs by 2018.²⁷

²⁶ See Figures 1-2, 1-3, 1-4, and 1-5 of Georgia's Progress Report on pages 5-7.

²⁷ See pages 42-43 of the narrative and Appendix D of Georgia's Progress Report.

As discussed in Section II.A.1, above, CAIR was implemented during the time period evaluated by Georgia for its Progress Report, but has now been replaced by CSAPR. At the present time, the requirements of CSAPR apply to sources in Georgia under the terms of a FIP. Georgia's regional haze plan accordingly does not contain sufficient provisions to ensure that the RPGs of Class I areas in nearby states will be achieved. The term “implementation plan,” however, is defined for purposes of the Regional Haze Rule to mean “any [SIP], [FIP], or Tribal Implementation Plan.” 40 CFR 51.301. Measures in any issued FIP, as well as those in a state's regional haze plan, may therefore be considered in assessing the adequacy of the “existing implementation plan.” As noted above, Georgia submitted a SIP revision on July 26, 2017, that adopts provisions for participation in the CSAPR annual NOX and annual SO2 trading programs, including annual NOX and annual SO2 budgets that are equal to the budgets for Georgia in EPA's CSAPR FIP.

EPA proposes to find that Georgia has adequately addressed the provisions of 40 CFR 51.308(g) regarding the strategy assessment. In its Progress Report, Georgia described the improving visibility trends using data from the IMPROVE network and the downward emissions trends in NOX and SO2 emissions from EGUs in the State. These trends support the State's determination that its regional haze plan is sufficient to meet RPGs for Class I areas within and outside the State potentially impacted by Georgia sources. EPA finds that Georgia's conclusion regarding the sufficiency of its regional haze plan is appropriate because CAIR was in effect in Georgia through 2014, providing the emission reductions relied upon in Georgia's regional haze plan through that date. CSAPR is now being implemented, and by 2018, the end of the first regional haze implementation period, CSAPR will reduce emissions of SO2 and NOX from EGUs in Georgia by the same amount assumed by EPA when it issued the CSAPR FIP for Georgia. Because CSAPR will ensure the control of SO2 and NOX emissions reductions relied upon by Georgia and other states in setting their RPGs beginning in January 2015 at least through the remainder of the first implementation period in 2018, EPA is proposing to approve Georgia's finding that the plan elements and strategies in its implementation plan are sufficient to achieve the RPGs for the Class I area in the State and for Class I areas in nearby states potentially impacted by sources in the State.

7. Review of Current Monitoring Strategy

Georgia's Progress Report summarizes the existing monitoring network in the State to monitor visibility in Georgia's Class I areas and concludes that no modifications to the existing visibility monitoring strategy are necessary. The primary monitoring network for regional haze, both nationwide and in Georgia, is the IMPROVE network. There are currently two IMPROVE sites in Georgia. One is located in the Cohutta Wilderness Area. The other monitor is located in the Okefenokee Wilderness area and serves as the monitoring site for both the Okefenokee and Wolf Island Wilderness Areas.

The State also explains the importance of the IMPROVE monitoring network for tracking visibility trends at Class I areas in Georgia, noting that because IMPROVE monitoring data from 2000-2004 serve as the baseline for the regional haze program, the future regional haze monitoring strategy should be based on IMPROVE data (or data directly comparable to IMPROVE data). Georgia also highlights that the IMPROVE measurements provide the only long-term record available for tracking visibility improvement or degradation. The Visibility Information Exchange Web System Web site has been maintained by VISTAS and the other Regional Planning Organizations to provide ready access to the IMPROVE data and data analysis tools.

EPA proposes to find that Georgia has adequately addressed the applicable provisions of 40 CFR 51.308(g) regarding monitoring strategy because the State reviewed its visibility monitoring strategy and determined that no further modifications to the strategy are necessary.

B. Determination of Adequacy of Existing Regional Haze Plan

In its Progress Report, Georgia submitted a declaration to EPA that the existing regional haze plan requires no further substantive revision at this time to achieve the RPGs for Class I areas affected by the State's sources. The basis for the State's declaration is the findings from the Progress Report, including the findings that: The control measures in Georgia's regional haze plan are on track to meet their implementation schedules; reduction of SO2 emissions continues to be the appropriate strategy for improvement of visibility in Georgia's Class I areas; EGU SO2 emissions dropped from 2002 to 2011 by 325,795 tons,²⁸ and the actual change in visibility through 2010 for Georgia's Class I areas is better than the what the State predicted for 2010 and is exceeding the uniform rate of progress.

²⁸ See page 39 of Georgia's Progress Report.

EPA proposes to find that Georgia has adequately addressed 40 CFR 51.308(h) because the visibility trends at the Class I areas in the State and at Class I areas outside the State potentially impacted by sources within Georgia and the emissions trends of the largest emitters of visibility-impairing pollutants in the State indicate that the relevant RPGs will be met.

III. Proposed Action

EPA is proposing to approve Georgia's Regional Haze Progress Report SIP revision, submitted by the State on January 8, 2014, as meeting the applicable regional haze requirements set forth in 40 CFR 51.308(g) and 51.308(h).

IV. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this proposed action merely proposes to approve state law as meeting federal requirements and does not impose additional requirements beyond those imposed by state law. For that reason, this proposed action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen oxides, Particulate matter, Reporting and recordkeeping requirements, Sulfur dioxide, Volatile organic compounds.

Authority: 42 U.S.C. 7401 et seq.

Dated: August 7, 2017.
V. Anne Heard,
Acting Regional Administrator, Region 4.

[FR Doc. 2017-17229 Filed 8-14-17; 8:45 am]

BILLING CODE 6560-50-P